FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011516-006.

Title: Voluntary Intermodal Sealift Discussion Agreement.

Parties: American President Lines, Ltd.; CP Ships USA, LLC; Crowley Liner Services, Inc.; Crowley Marine Services, Inc.; Farrell Lines, Inc.; Maersk Line, Limited; Matson Navigation Company; and Totem Ocean Trailer Express, Inc.

Filing Party: Gerald A. Malia, Esq.; 1660 L Street, NW.; Suite 506; Washington, DC 20036.

Synopsis: The amendment would add Maersk Line, Inc. and American Roll-On Roll-Off Carrier as parties; delete Totem Ocean Trailer Express; change CP Ships USA, LLC to Hapag-Lloyd USA, LLC; and update the addresses for the Crowley companies, Farrell Lines, and Maersk Line, Limited.

Agreement No.: 011733-023.

Title: Common Ocean Carrier Platform Agreement.

Parties: A.P. Moller-Maersk A/S; CMA CGM; Hamburg-Süd; Hapag-Lloyd AG; Mediterranean Shipping Company S.A.; and United Arab Shipping Company (S.A.G.) as shareholder parties, and Alianca Navegacao e Logistica Ltda.; Compania Sud Americana de Vapores, S.A.; Companhia Libra de Navegacao; COSCO Container Lines Co., Ltd.; Emirates Shipping Lines; Hanjin Shipping Co., Ltd.; Hyundai Merchant Marine Co. Ltd; Kawasaki Kisen Kaisha, Ltd.; MISC Berhad; Mitsui O.S.K. lines Ltd.; Nippon Yusen Kaisha; Safmarine Container Lines N.V.; Senator Lines GmbH; Norasia Container Lines Limited; and Tasman Orient Line C.V. as non-shareholder parties.

Filing Party: Wayne R. Rohde, Esq.; Sher & Blackwell LLP; 1850 M Street, NW.; Suite 900; Washington, DC 20036.

Synopsis: The amendment will reflect that non-ocean common carrier entities will be permitted to own voting stock in INTTRA, Inc., the entity formed pursuant to the agreement.

By Order of the Federal Maritime Commission.
Dated: June 22, 2007.
Bryant L. VanBrakle,
Secretary.

[FR Doc. E7-12422 Filed 6-26-07; 8:45 am]

BILLING CODE 6730-01-P